DEPARTMENT OF HEALTH AND HUMAN SERVICES

Centers for Disease Control and Prevention

Meeting of the Community Preventive Services Task Force (CPSTF)

AGENCY: Centers for Disease Control and Prevention (CDC), Department of Health and Human Services (HHS).

ACTION: Notice of meeting.

SUMMARY: The Centers for Disease Control and Prevention within the Department of Health and Human Services announces the next meeting of the Community Preventive Services Task Force (CPSTF) on October 20-21, 2021.

DATES: The meeting will be held on Wednesday, October 20, 2021, from 10:00 a.m. to 5:00 p.m. EDT, and Thursday, October 21, 2021, from 10:00 a.m. to 5:00 p.m. EDT.

ADDRESSES: The meeting will be held via web conference.

FOR FURTHER INFORMATION CONTACT: Arielle Gatlin, Office of the Associate Director for Policy and Strategy; Centers for Disease Control and Prevention, 1600 Clifton Road NE, MS-V-25-5, Atlanta, GA 30329, phone: (404) 498-4512, email: CPSTF@cdc.gov.

SUPPLEMENTARY INFORMATION:

Meeting Accessibility: The CPSTF meeting will be held virtually via web conference. CDC will send web conference information to registrants upon receipt of their registration. All meeting attendees must register by October 13, 2021 to receive the web conference information for the October meeting. CDC will email web conference information from the CPSTF@cdc.gov mailbox.

To register for the meeting, individuals should send an email to CPSTF@cdc.gov and include the following information: name, title, organization name, organization address, phone, and email.

Public Comment: Individuals who would like to make public comments during the October meeting must state their desire to do so with their registration and provide their name and organizational affiliation and the topic to be addressed (if known). The requestor will receive instructions for the public comment process for this virtual meeting after the request is received. A public comment period follows the CPSTF's discussion of each systematic review and will be limited, up to three minutes per person. Public comments will become part of the meeting summary.

Background on the CPSTF: The CPSTF is an independent, nonfederal panel whose members are appointed by the CDC Director. CPSTF members represent a broad range of research, practice, and policy expertise in prevention, wellness, health promotion, and public health. The CPSTF was convened in 1996 by the Department of Health and Human Services (HHS) to identify community preventive programs, services, and policies that increase health, longevity, save lives and dollars, and improve Americans' quality of life. CDC is mandated to provide ongoing administrative, research, and technical support for the operations of the CPSTF. During its meetings, the CPSTF considers the findings of systematic reviews of existing research and practice-based evidence and issues recommendations. CPSTF recommendations are not mandates for compliance or spending. Instead, they provide information about evidence-based options that decision makers and stakeholders can consider when they are determining what best meets the specific needs, preferences, available resources, and constraints of their jurisdictions and constituents. The CPSTF's recommendations, along with the systematic reviews of the evidence on which they are based, are compiled in the The Community Guide.

Matters proposed for discussion: The agenda will consist of deliberation on systematic reviews of literature and is open to the public. Topics will include Cancer Screening; HIV Prevention; Nutrition, Physical Activity, and Obesity; Social Determinants of Health, and Violence Prevention. Information regarding the start and end times for each day, and any updates to agenda topics, will be available on the Community Guide website (www.thecommunityguide.org) closer to the date of the meeting.

The meeting agenda is subject to change without notice.

Dated: August 11, 2021.
Sandra Cashman,
Executive Secretary, Centers for Disease Control and Prevention.

[FR Doc. 2021-17556 Filed 8-16-21; 8:45 am]

BILLING CODE 4163-18-P